DEPARTMENT OF COMMERCE

Bureau of the Census

[Docket Number 180608532-8841-02]

Soliciting Feedback From Users on 2020 Census Data Products; Reopening of Comment Period

AGENCY: Bureau of the Census, Department of Commerce.

ACTION: Notice and request for comment; reopening of comment period.

SUMMARY: The Bureau of the Census (Census Bureau) is reopening the comment period provided in the notice entitled “Soliciting Feedback from Users on 2020 Census Data Products,” which was published in the Federal Register on July 19, 2018, in order to allow interested parties additional time to submit comments. The public comment period on that notice closed on September 17, 2018.

DATES: The Census Bureau is reopening the comment period for the notice entitled “Soliciting Feedback from Users on 2020 Census Data Products,” which was published in the Federal Register on July 19, 2018 (83 FR 34111). The Census Bureau will accept comments received on this notice by November 8, 2018.

ADDRESSES: Please address all written comments to Karen Battle, Chief, Population Division, U.S. Census Bureau, 4600 Silver Hill Road, Room 6H174, Washington, DC 20233, or to POP.2020.DataProducts@census.gov.

You may also submit comments, identified by Census Bureau Docket Identification Number USBC-2018-0009, to the Federal e-Rulemaking Portal: http://www.regulations.gov. All comments received are part of the public record. Comments will generally be posted without change. All Personally Identifiable Information (for example, name and address) voluntarily submitted by the commenter may be publicly accessible. Do not submit confidential business information or otherwise sensitive or protected information. You may submit attachments to electronic comments in Microsoft Word, Excel, WordPerfect, or Adobe PDF file formats only.

FOR FURTHER INFORMATION CONTACT: Karen Battle, U.S. Census Bureau, 4600 Silver Hill Road, Room 6H174, Washington, DC 20233 or POP.2020.DataProducts@census.gov.

SUPPLEMENTARY INFORMATION: The Census Bureau is conducting a comprehensive review of the decennial census data products in preparation for the 2020 Census. It seeks feedback to understand how the public uses decennial census data products. Public feedback is essential for a complete review of the decennial census data products and will assist the Census Bureau in prioritizing products for the 2020 Census. In response to individuals and organizations who have requested more time to submit comments, the Census Bureau has decided to extend the comment period to November 8, 2018. This document announces the extension of the comment period.

The Census Bureau is not seeking feedback on apportionment counts and redistricting data products, which are constitutionally and statutorily mandated, respectively. For more information about this program, please see the original document published in the Federal Register on July 19, 2018 (83 FR 34111). All comments and information received during the prior comment period, as well as those received between September 17 and October 9, 2018, will be fully considered and do not need to be resubmitted.

Dated: October 2, 2018.
Ron S. Jarmin,
Deputy Director, Performing the Non-Exclusive Functions and Duties of the Director Bureau of the Census.

[FR Doc. 2018-21837 Filed 10-5-18; 8:45 am]

BILLING CODE 3510-07-P